DEPARTMENT OF ENERGY

Federal Energy Regulatory Commission

Combined Notice of Filings #2

Take notice that the Commission received the following exempt wholesale generator filings:

Docket Numbers: EG16-55-000.

Applicants: Grant County Interconnect, LLC.

Description: Notice of Self-Certification of Exempt Wholesale Generator Status of Grant County Interconnect, LLC.

Filed Date: 2/11/16.

Accession Number: 20160211-5149.

Comments Due: 5 p.m. ET 3/3/16.

Take notice that the Commission received the following electric rate filings:

Docket Numbers: ER15-13-005.

Applicants: Transource Wisconsin, LLC.

Description: Compliance filing: Transource Wisconsin Compliance Filing Revision to be effective 12/1/2014.

Filed Date: 2/11/16.

Accession Number: 20160211-5139.

Comments Due: 5 p.m. ET 3/3/16.

Docket Numbers: ER16-842-001.

Applicants: Kay Wind, LLC.

Description: Tariff Amendment: Kay Wind Amemdment Filing to be effective 2/2/2016.

Filed Date: 2/11/16.

Accession Number: 20160211-5190.

Comments Due: 5 p.m. ET 3/3/16.

Docket Numbers: ER16-927-000.

Applicants: International Transmission Company.

Description: § 205(d) Rate Filing: CIAC Agreement with Fortistar LLC to be effective 4/11/2016.

Filed Date: 2/11/16.

Accession Number: 20160211-5129.

Comments Due: 5 p.m. ET 3/3/16.

Docket Numbers: ER16-928-000.

Applicants: ISO New England Inc.

Description: ISO New England Inc. submits Foruth Quarter 2015 Capital Budget Report under ER16-928.

Filed Date: 2/11/16.

Accession Number: 20160211-5131.

Comments Due: 5 p.m. ET 3/3/16.

Docket Numbers: ER16-929-000.

Applicants: AES Ohio Generation, LLC.

Description: § 205(d) Rate Filing: Rate Schedule No. 3 to be effective 2/12/2016.

Filed Date: 2/11/16.

Accession Number: 20160211-5163.

Comments Due: 5 p.m. ET 3/3/16.

Docket Numbers: ER16-930-000.

Applicants: AES Ohio Generation, LLC.

Description: § 205(d) Rate Filing: FERC Rate Schedule No. 1 to be effective 2/12/2016.

Filed Date: 2/11/16.

Accession Number: 20160211-5165.

Comments Due: 5 p.m. ET 3/3/16.

Docket Numbers: ER16-931-000.

Applicants: AES Ohio Generation, LLC.

Description: § 205(d) Rate Filing: FERC Electric Tariff, Vol. No. 2 to be effective 2/12/2016.

Filed Date: 2/11/16.

Accession Number: 20160211-5166.

Comments Due: 5 p.m. ET 3/3/16.

Docket Numbers: ER16-932-000.

Applicants: Grant County Interconnect, LLC.

Description: Baseline eTariff Filing: Grant County Interconnect LLC Filing of Coordination Services Agreement to be effective 2/11/2016.

Filed Date: 2/11/16.

Accession Number: 20160211-5191.

Comments Due: 5 p.m. ET 3/3/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 11, 2016.
Nathaniel J. Davis, Sr.,
Deputy Secretary.

[FR Doc. 2016-03321 Filed 2-17-16; 8:45 am]

BILLING CODE 6717-01-P